DEPARTMENT OF JUSTICE

Justice Management Division; Office of Attorney Personnel Management; Agency Information Collection Activities: Proposed Collection; Comments Requested

ACTION: Notice of Information Collection Under Review: Extension of a Currently Approved Collection: Application Booklets—Attorney General's Honor Program and Summer Law Intern Program.

The Department of Justice, Justice Management Division, Office of Attorney Personal Management, has submitted the following information collection request to the Office of Management and Budget for review and clearance in accordance with the Paperwork Reduction Act of 1995. This proposed information collection is published to obtain comments from the public and affected agencies. Comments are encouraged and will be accepted until April 17, 2001.

If you have comments, suggestions, or need a copy of the proposed information collection instrument with instructions or additional information, please contact Eleanor Barry, 202-514-8902, Office of Attorney Personnel Management, U.S. Department of Justice, 950 Pennsylvania Avenue, NW, Washington, DC 20530. Request written comments and suggestions from the public and affected agencies concerning the proposed collection of information address one or more of the following four points:

(1) Evaluate whether the collection of information is necessary for the proper performance of the functions of the agency, including whether the information will have practical utility;

(2) Evaluate the accuracy of the agency's estimate of the burden of the collection of information, including the validity of the methodology and assumptions used;

(3) Enhance the quality, utility and clarity of the information to be collected; and

(4) Minimize the burden of the collection of information on those who are to respond, including through the use of appropriate automated, electronic, mechanical, or other technological collection techniques or other forms of information technology, e.g. permitting electronic submission of responses.

Overview of this Information Collection

(1) Type of information collection: Extension of currently approved information collection.

(2) The title of the Form/Collection: Application Booklets—Attorney General's Honor Program and Summer Law Intern Program.

(3) The agency form number and the applicable component of the Department sponsoring the collection: None. Office of Attorney Personnel Management, Justice Management Division, U.S. Department of Justice.

(4) Affected public who will be asked to respond, as well as a brief abstract: Primary: Law students and Judicial Law Clerks: Pursuant to 28 CFR 0.15(b)(2), the Deputy Attorney General of the United States Department of Justice has the responsibility of administering the “Attorney General's recruitment program for honor law graduates and judicial law clerks.” This includes the hiring of third-year law students and judicial law clerks for full-time employment following graduation or completion of a clerkship, and primarily second-year law students for summer employment. This program has been in existence for 47 years, and is considered the Federal Government's premier legal recruitment program. The Department of Justice currently hires approximately 145 third-year law students/judicial law clerks and 130 second-year law students each year under these programs. The Department of Justice is the largest legal employer in the country. Approximately 4,500 applications are received for these positions annually. The responsibility for running these programs has been delegated by the Deputy Attorney General to the Director, Office of Attorney Personnel Management (OAPM) pursuant to 28 CFR 0.15(c). OAPM together with other Department of Justice representatives who make the ultimate hiring determinations have developed these application booklets to distribute information on the programs and in turn collect the information they consider essential to make an informed hiring decision on legal applicants.

This data collection is the only vehicle for the Department of Justice (DOJ) to hire graduating law students. This application form is submitted voluntarily, submitted only once a year by students/judicial law clerks; and the information sought only relates to the hiring criteria established as an internal matter by DOJ personnel.

(5) An estimate of the total number of responses and the amount of time estimated for an average response: 4500 respondents at 1 hour per response.

(6) An estimate of the total public burden (in hours) associated with the collection: 4500 annual burden hours.

If additional information is required contact: Robert B. Briggs, Department Clearance Officer, United States Department of Justice, Information Management and Security Staff, Justice Management Division, Suite 1220, 1331 Pennsylvania Avenue, NW, National Place Building, Washington, DC 20530.

Dated: February 12, 2001.
Robert B. Briggs,
Department Clearance Officer, United States Department of Justice.

[FR Doc. 01-3939 Filed 2-15-01; 8:45 am]

BILLING CODE 4410-26-M